DEPARTMENT OF TRANSPORTATION

Federal Aviation Administration

14 CFR Parts 413, 415, and 417

[Docket No. FAA-2000-7953; Notice No. 05-05]

RIN 2120-AG37

Licensing and Safety Requirements for Launch

AGENCY: Federal Aviation Administration (FAA), DOT.

ACTION: Availability of draft regulatory language; extension of comment period.

SUMMARY: The FAA is extending for an additional 30 days the comment period on the draft regulatory language that is the subject of a document published on March 1, 2005. The comment period now extends until June 1, 2005. The draft describes changes to the commercial space transportation regulations governing licensing and safety requirements for launch.

DATES: Send your comments to reach us by June 1, 2005.

ADDRESSES: Persons who wish to file written comments may send comments identified by Docket Number FAA-2000-7953 using any of the following methods:

DOT Docket Web site: Go to http://dms.dot.gov and follow the instructions for sending your comments electronically.

Government-wide rulemaking Web site: Go to http://www.regulations.gov and follow the instructions for sending your comments electronically.

Mail: Docket Management Facility; U.S. Department of Transportation, 400 Seventh Street, SW., Nassif Building, Room PL-401, Washington, DC 20590-001.

Fax: 1-202-493-2251.

Hand Delivery: Room PL-401 on the plaza level of the Nassif Building, 400 Seventh Street, SW., Washington, DC, between 9 a.m. and 5 p.m., Monday through Friday, except Federal holidays.

For more information on the rulemaking process, see the SUPPLEMENTARY INFORMATION section of this document.

Privacy: We will post all comments we receive, without change, to http://dms.dot.gov, including any personal information you provide. For more information, see the Privacy Act discussion in the SUPPLEMENTARY INFORMATION section of this document.

Docket: To read background documents or comments received, go to http://dms.dot.gov at any time or to Room PL-401 on the plaza level of the Nassif Building, 400 Seventh Street, SW., Washington, DC, between 9 a.m. and 5 p.m., Monday through Friday, except Federal holidays. Written comments to the docket will receive the same consideration as statements made at the public meeting.

FOR FURTHER INFORMATION CONTACT: For technical information: René Rey, (202) 267-7538. For legal information: Laura Montgomery, (202) 267-3150.

SUPPLEMENTARY INFORMATION:

Background

On March 1, 2005, the FAA published a notice in the Federal Register announcing the availability of draft changes to the proposed commercial space transportation regulations governing licensing and safety requirements for launch (70 FR 9885). The deadline for comments was May 2, 2005. In a letter dated March 18, 2005, Lockheed Martin Corporation requested a 30-day extension of the comment period. The request is based on the size and complexity of the draft regulatory language and accompanying documents. An extension of time would allow for a more thorough review and meaningful and constructive comments. Several participants at a public meeting held on March 29 and 30, 2005, expressed support for the extension request. In the interest of full and meaningful public participation, we have decided to grant the request. The comment period now extends through June 1, 2005.

Comments Invited

You may comment on the draft regulatory language by sending written data, views, or arguments. We also invite comments relating to the environmental, energy, federalism, or economic impact that might result from adopting the draft regulatory language. Substantive comments should be accompanied by cost estimates. The most helpful comments are those that include a rationale or data. Comments must identify the regulatory docket number and be sent to one of the addresses listed above.

We will file in the docket all comments received, as well as a report summarizing each substantive public contact with FAA personnel concerning this draft regulatory language. You may review the public docket containing comments to these proposed regulations in person in the Dockets Office between 9 a.m. and 5 p.m., Monday through Friday, except Federal holidays. The DOT Rules Dockets Office is on the plaza level of the NASSIF Building at the Department of Transportation at the above address. We will consider all comments received on or before the closing date before taking action on the draft regulatory language. We will consider late-filed comments to the extent practicable, and consistent with statutory deadlines. We may change the draft regulatory language in light of the comments we receive.

Commenters who file comments by mail will receive an acknowledgement of receipt of their comments by including a pre-addressed, stamped postcard with those comments on which the following statement is made: “Comments to Docket No. FAA-2000-7953.” The postcard will be date stamped and mailed to the commenter.

Privacy Act

Using the search function of our docket web site, anyone can find and read the comments received into any of our dockets, including the name of the individual sending the comment (or signing the comment on behalf of an association, business, labor union, etc.). You may review DOT's complete Privacy Act Statement in the Federal Register published on April 11, 2000 (65 FR 19477-78) or you may visit http://dms.dot.gov.

Proprietary or Confidential Business Information

Do not file in the docket information that you consider to be proprietary or confidential business information. Send or deliver this information directly to the person identified in the FOR FURTHER INFORMATION CONTACT section of this document. You must mark the information that you consider proprietary or confidential. If you send the information on a disk or CD ROM, mark the outside of the disk or CD ROM and also identify electronically within the disk or CD ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

Availability of the Draft Regulatory Language and Other Documents

You can get an electronic copy of the draft regulatory language, the draft regulatory evaluation, a section-by-section response to comments on the 2000 NPRM and the 2002 SNPRM, and the Independent Economic Assessment performed by SAIC using the Internet through the Department of Transportation Docket Management System at http://dms.dot.gov. Use the search feature of the Web site by entering the docket number for this rulemaking (7953). We have also established a Web site containing a cross-referencing tool that correlates the text of the draft regulatory language with Air Force launch requirements documents. The Web address is http://ast.faa.gov/um/.

You can also get a copy of the draft regulatory language by sending a request to the Federal Aviation Administration, Office of Rulemaking, ARM-1, 800 Independence Avenue, SW., Washington, DC 20591, or by calling (202) 267-9680. Make sure to identify the docket number of this rulemaking.

Issued in Washington, DC, on April 8, 2005.
Patricia G. Smith,
Associate Administrator for Commercial Space Transportation.

[FR Doc. 05-7521 Filed 4-13-05; 8:45 am]

BILLING CODE 4910-13-P